DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 8, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Permanent, Privately Owned Horse Quarantine Facilities.

OMB Control Number: 0579-0313.

Summary of Collection: The Animal Health Protection Act (AHPA) of 2002 is the primary Federal law governing the protection of animal health. The law gives the Secretary of Agriculture broad authority to detect, control, or eradicate pests or diseases of livestock or poultry. The Secretary may also prohibit or restrict import or export of any such animal or related material if necessary to prevent the spread of any livestock or poultry pest or disease. The AHPA is contained in Title X, Subtitle E, Sections 10401-18 of Public Law 107-171, May 13, 2002, the Farm Security and Rural Investment Act of 2002 [7 U.S.C. 8301 et seq.).

The Animal and Plant Health Inspection Service (APHIS) regulations in subpart C of part 93, on the importation of horses include requirements for the approval and establishment of permanent, privately owned horse quarantine facilities that are operated under APHIS supervision. These regulations necessitate the use of several information collection activities when applicants apply for approval to establish and operate permanent, privately owned quarantine facilities for horses.

Need and Use of the Information: APHIS will collect the following information to ensure that horses can be imported into the United States without compromising its ability to protect against the introduction of communicable diseases of horses: (1) Environment Certification, (2) Application for Facility Approval, (3) Service Agreements, (4) Letter Challenging Withdrawal for Facility Approval, (5) Letter Notifying APHIS of Facility Closure, (6) Memorandum of Understanding/Compliance Agreement, (7) Security Instructions, (8) Alarm Notification, (9) Security Breach, (10) List of Personnel, (11) Signed Statements, (12) Daily Log, (13) Request for Variance, (14) Authorization Access Affidavits, and (15) Standards Operating Procedures. Without the information APHIS would be unable to approve permanent, privately owned horse quarantine facilities. Importers of horses would find it difficult to get quarantine space at either Federal facilities or temporary, privately owned facilities, which could decrease equine imports. This would impede trade and create challenges for the U.S. equine industry.

Description of Respondents: Business or other for-profit; State, Local or Tribal Government.

Number of Respondents: 17.

Frequency of Responses: Recordkeeping; Reporting: On occasion.

Total Burden Hours: 158.

Dated: May 4, 2022.
Ruth Brown,
Departmental Information Collection Clearance Officer.

[FR Doc. 2022-09932 Filed 5-6-22; 8:45 am]

BILLING CODE 3410-34-P